DEPARTMENT OF THE INTERIOR

National Park Service

[NPS-SER-CARL-24587; PX.XCARLFA18.00.1]

Minor Boundary Revision at Carl Sandburg Home National Historic Site

AGENCY: National Park Service, Interior.

ACTION: Notification of boundary revision.

SUMMARY: The boundary of the Carl Sandburg Home National Historic Site is modified to include an additional 4.84 acres of land that is immediately adjacent to the southeast boundary of the historic site. The United States by will acquire, by donation, the tract from the current owner, Wells Fargo Bank. This property will be included within the Carl Sandburg Home National Historic Site upon completion of the minor boundary adjustment.

DATES: The applicable date of this boundary revision is April 24, 2018.

ADDRESSES: The map depicting this boundary revision is National Park Service, Southeast Region Land Resources Program Center, 1924 Building, 100 Alabama Street SW, Atlanta, Georgia 30303 and National Park Service, Department of the Interior, 1849 C Street NW, Washington, DC 20240.

FOR FURTHER INFORMATION CONTACT: National Park Service, Anthony B. Marshall, Acting Chief, Southeast Region Land Resources Program Center, 1924 Building, 100 Alabama Street SW, Atlanta, Georgia 30303, telephone 404-507-5659.

SUPPLEMENTARY INFORMATION: Specifically, 54 U.S.C. 100506(c)(1) provides that, after notifying the House Committee on Natural Resources and the Senate Committee on Energy and Natural Resources, the Secretary of the Interior is authorized to make this boundary revision upon publication of notice in the Federal Register. The boundary revision is depicted on Map No. 445/135,029 dated May 2017.

The Committees have been notified of this boundary revision. This boundary revision and subsequent acquisition of Tract 01-110 will enable the National Park Service to manage and protect significant resources located in the Carl Sandburg Home National Historic Site.

Dated: March 28, 2018.
Lance Hatten,
Acting Regional Director, Southeast Region.

[FR Doc. 2018-08449 Filed 4-23-18; 8:45 am]

BILLING CODE 4312-52-P